DEPARTMENT OF ENERGY

Federal Energy Regulatory Commission

[Docket No. CP04-410-000]

Southern Natural Gas Company; Notice of Request Under Blanket Authorization

September 14, 2004.

Take notice that on September 10, 2004, Southern Natural Gas Company (Southern), Post Office Box 2563, Birmingham, Alabama 35202-2563, filed in Docket No. CP04-410-000, an application pursuant to sections 157.20 and 157.216 of the Commission's Regulations for authorization to abandon in place a portion of its Montgomery-Columbus pipeline located in Tuscaloosa, Hale, Bibb, and Perry Counties Alabama pursuant to Southern's blanket certificate of public convenience and necessity issued in Docket No. CP82-406-000, all as more fully set forth in the request on file with the Commission and open to pubic inspection.

Specifically, Southern seeks to abandon approximately 22.066 miles of 12-inch pipeline between mile post 29.084 (Duncanville Compressor Station) and mile post 51.150 (Brent and Centerville Gate) on its Montgomery-Columbus Pipeline. Southern states that the pipeline segment is old and in need of extensive repair and that the abandonment will reduce costs resulting from replacement and maintenance. Southern states that this segment of line has not been used to provide transportation service for any customers during the past 12 months and, therefore, no customer consents are required.

Any questions concerning this application may be directed to John C. Griffin, Senior Counsel, at (205) 325-7133, or Patrick B. Pope, Vice President and General Counsel, at (205) 325-7626.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to section 7 of the Natural Gas Act.

Linda Mitry,
Acting Secretary.

[FR Doc. E4-2250 Filed 9-17-04; 8:45 am]

BILLING CODE 6717-01-P